DEPARTMENT OF ENERGY

Federal Energy Regulatory Commission

Combined Notice of Filings #1

July 24, 2008.

Take notice that the Commission received the following exempt wholesale generator filings:

Docket Numbers: EG08-82-000.

Applicants: Wapsipinicon Wind Project, LLC.

Description: Notice of Self-Certification of Exempt Wholesale Generatory Status of Wapsipinicon Wind Project, LLC.

Filed Date: 07/23/2008.

Accession Number: 20080723-5060.

Comment Date: 5 p.m. Eastern Time on Wednesday, August 13, 2008.

Take notice that the Commission received the following electric rate filings:

Docket Numbers: ER98-4159-014; ER06-399-008; ER06-398-008; ER04-268-011.

Applicants: Duquesne Light Company, Duquesne Power, LLC, Duquesne Keystone, LLC, Duquesne Conemaugh, LLC.

Description: Notice of Change in Status of Duquesne Light Company, et al. under ER98-4159, et al.

Filed Date: 07/23/2008.

Accession Number: 20080723-5078.

Comment Date: 5 p.m. Eastern Time on Wednesday, August 13, 2008.

Docket Numbers: ER01-751-012.

Applicants: Mountain View Power Partners, LLC.

Description: Mountain View Power Partners, LLC submits notice of change in status in connection with sale by AES Western MV Acquisition, LLC of a tax equity interest in Mountain View to JPM Capital Corporation, etc.

Filed Date: 07/21/2008.

Accession Number: 20080723-0035.

Comment Date: 5 p.m. Eastern Time on Monday, August 11, 2008.

Docket Numbers: ER05-168-006; EL05-19-007.

Applicants: Southwestern Public Service Company.

Description: Golden Spread Electric Cooperative, Inc. v. Southwestern Public Service Coop submits a compliance filing.

Filed Date: 07/21/2008.

Accession Number: 20080723-0141.

Comment Date: 5 p.m. Eastern Time on Monday, August 11, 2008.

Docket Numbers: ER05-330-003.

Applicants: City Power Marketing, LLC.

Description: Supplement to Application.

Filed Date: 07/23/2008.

Accession Number: 20080723-5084.

Comment Date: 5 p.m. Eastern Time on Wednesday, August 13, 2008.

Docket Numbers: ER05-737-002.

Applicants: Commerce Energy Inc.

Description: Commerce Energy Inc., submits analysis and rate schedule revisions.

Filed Date: 07/23/2008.

Accession Number: 20080724-0027.

Comment Date: 5 p.m. Eastern Time on Wednesday, August 13, 2008.

Docket Numbers: ER06-615-026; ER07-1257-008.

Applicants: California Independent System Operator Corporation.

Description: California Independent System Operator Corp., submits instant filing in compliance with the Commission's Order Conditionally Accepting, Subject to Modification, MRTU Compliance Filings, etc.

Filed Date: 07/21/2008.

Accession Number: 20080723-0031.

Comment Date: 5 p.m. Eastern Time on Monday, August 11, 2008.

Docket Numbers: ER06-739-015; ER06-738-015; ER03-983-012; ER07-501-011; ER07-758-008; ER08-649-006; ER02-537-016.

Applicants: East Coast Power Linden Holding, LLC; Cogen Technologies Linden Venture, L.P.; Fox Energy Company, LLC; Birchwood Power Partners, L.P.; Inland Empire Energy Center, L.L.C.; EFS Parlin Holdings, LLC; Shady Hills Power Company, L.L.C.

Description: Notice of Non-Material Change in Status (Order No. 652) of GE Companies (by Aircraft Svc. Corp.).

Filed Date: 07/23/2008.

Accession Number: 20080723-5025.

Comment Date: 5 p.m. Eastern Time on Wednesday, August 13, 2008.

Docket Numbers: ER06-864-014; ER07-1356-005; ER07-1112-004; ER07-1113-004; ER07-1115-004; ER07-1117-005; ER07-1118-004; ER07-1119-004; ER07-1120-004; ER07-1122-004; ER06-1543-010; ER00-2885-020; ER01-2765-019; ER07-1358-005; ER08-148-004; ER05-1232-013; ER02-1582-017; ER02-2102-019; ER03-1283-014.

Applicants: Bear Energy LP; BE Alabama LLC; BE Allegheny LLC; BE CA LLC; BE Colquitt LLC; BE KJ LLC; BE Rayle LLC; BE Red Oak LLC; BE Satilla LLC; BE Walton LLC; Brush Cogeneration Partners; Cedar Brakes I LLC; Cedar Brakes II, LLC; BE Louisiana LLC; Central Power & Lime INC; JPMorgan Ventures Energy Corporation; Mohawk River Funding IV, L.L.C.; Utility Contract Funding, L.L.C.; Vineland Energy, LLC.

Description: Notice of Non-Material Change in Status of JP Morgan Ventures Energy Corporation.

Filed Date: 07/21/2008.

Accession Number: 20080721-5174.

Comment Date: 5 p.m. Eastern Time on Monday, August 11, 2008.

Docket Numbers: ER07-549-003; EL07-71-002; EC06-126-005.

Applicants: NSTAR Electric Company.

Description: NSTAR Electric Company submits proposed revisions to Schedule 21-NSTAR of Section II of the ISO New England, Inc., Transmission, Markets and Services Tariff, FERC Electric Tariff 3, effective 9/20/08.

Filed Date: 07/22/2008.

Accession Number: 20080724-0031.

Comment Date: 5 p.m. Eastern Time on Tuesday, August 12, 2008.

Docket Numbers: ER07-749-002.

Applicants: Dyon, LLC.

Description: Dyon, LLC submits its application for Category 1 Status and amendments to its market-based rate schedule in compliance with Commission Order 697.

Filed Date: 07/21/2008.

Accession Number: 20080723-0038.

Comment Date: 5 p.m. Eastern Time on Monday, August 11, 2008.

Docket Numbers: ER08-73-002.

Applicants: California Independent System Operator C.

Description: California Indep. System Operator Corp submits its Market Redesign and Technology Upgrade.

Filed Date: 07/21/2008.

Accession Number: 20080723-0039.

Comment Date: 5 p.m. Eastern Time on Monday, August 11, 2008.

Docket Numbers: ER08-697-002.

Applicants: ISO New England Inc. and New England Pow.

Description: ISO New England Inc et al. submits Second Revised Sheet 7103B et al. to FERC Electric Tariff 3 to Section III.1.10.7 of Market Rule 1.

Filed Date: 07/23/2008.

Accession Number: 20080723-0037.

Comment Date: 5 p.m. Eastern Time on Wednesday, August 13, 2008.

Docket Numbers: ER08-831-002.

Applicants: Progress Energy, Inc.

Description: Progress Energy Carolinas Inc et al. submits their compliance filing to the Joint Open Access Transmission Tariff under ER08-831.

Filed Date: 07/21/2008.

Accession Number: 20080722-0049.

Comment Date: 5 p.m. Eastern Time on Monday, August 11, 2008.

Docket Numbers: ER08-980-001.

Applicants: Alliant Energy Corporate Services, Inc.

Description: Interstate Power and Light Company submits a wholesale power supply agreement that complies with FERC's letter order.

Filed Date: 07/22/2008.

Accession Number: 20080724-0029.

Comment Date: 5 p.m. Eastern Time on Tuesday, August 12, 2008.

Docket Numbers: ER08-891-001.

Applicants: Wisconsin Power and Light Company.

Description: Wisconsin Power and Light Company submits a redline document showing the changes that were made to wholesale power agreement with Adams Columbia Electric Coop in compliance with FERC's 6/26/08 Order.

Filed Date: 07/23/2008.

Accession Number: 20080724-0026.

Comment Date: 5 p.m. Eastern Time on Wednesday, August 13, 2008.

Docket Numbers: ER08-911-001.

Applicants: Alliant Energy Corporate Services, Inc.

Description: Wisconsin Power and Light Company submits a wholesale power agreement that complies with FERC's Letter Order issued on 6/26/08.

Filed Date: 07/23/2008.

Accession Number: 20080724-0024.

Comment Date: 5 p.m. Eastern Time on Wednesday, August 13, 2008.

Docket Numbers: ER08-924-001.

Applicants: Alliant Energy Corporate Services, Inc.

Description: Wisconsin Power and Light Company submits a redline document showing the changes that were made to wholesale power agreement.

Filed Date: 07/23/2008.

Accession Number: 20080724-0025.

Comment Date: 5 p.m. Eastern Time on Wednesday, August 13, 2008.

Docket Numbers: ER08-1147-002.

Applicants: SG Energy LLC.

Description: SG Energy, LLC submits an Amended Petition for Acceptance of Initial Rate Schedule, Waivers and Blanket Authority.

Filed Date: 07/21/2008.

Accession Number: 20080723-0036.

Comment Date: 5 p.m. Eastern Time on Monday, August 11, 2008.

Docket Numbers: ER08-1281-000.

Applicants: New York Independent System Operator, Inc.

Description: New York Independent System Operator, Inc submits its Exigent Circumstances Filing Requesting Authority to Amend its Tariffs to Preclude the Scheduling of Certain External Transactions etc.

Filed Date: 07/21/2008.

Accession Number: 20080722-0092.

Comment Date: 5 p.m. Eastern Time on Monday, August 11, 2008.

Docket Numbers: ER08-1282-000.

Applicants: Pacific Gas and Electric Company.

Description: Pacific Gas and Electric Company submits an annual adjustment to a transmission service rate under the Interconnection Agreement between PG&E and the Sacramento Municipal Utility District.

Filed Date: 07/21/2008.

Accession Number: 20080723-0042.

Comment Date: 5 p.m. Eastern Time on Monday, August 11, 2008.

Docket Numbers: ER08-1283-000.

Applicants: Pacific Gas and Electric Company.

Description: Pacific Gas and Electric Company submits a notice of termination of the Generator Special Facilities Agreement and the Generator Interconnection Agreement with Duke Energy Morror Bay LLC.

Filed Date: 07/21/2008.

Accession Number: 20080723-0041.

Comment Date: 5 p.m. Eastern Time on Monday, August 11, 2008.

Docket Numbers: ER08-1284-000.

Applicants: ISO New England Inc.

Description: ISO New England, Inc and the New England Power Pool Participants Committee submits revisions to the Forward Capacity Market rules conditionally accepted by the FERC on 4/16/07.

Filed Date: 07/21/2008.

Accession Number: 20080723-0043.

Comment Date: 5 p.m. Eastern Time on Monday, August 11, 2008.

Docket Numbers: ER08-1285-000.

Applicants: Midwest Independent Transmission System.

Description: Midwest Independent Transmission System Operator, Inc submits an electric tariff filing on eligibility for financial transmission rights.

Filed Date: 07/21/2008.

Accession Number: 20080723-0040.

Comment Date: 5 p.m. Eastern Time on Monday, August 11, 2008.

Docket Numbers: ER08-1289-000; ER08-1290-000; ER08-1291-000; ER08-1292-000; ER08-1193-000.

Applicants: California Independent System Operator C.

Description: Motion of California Independent System Operator Corporation under ER08-1193, et al. to Consolidate Proceedings, to Shorten Time Period for Answers, and for Expedited Commission Action.

Filed Date: 07/22/2008.

Accession Number: 20080722-5105.

Comment Date: 5 p.m. Eastern Time on Tuesday, August 12, 2008.

Take notice that the Commission received the following open access transmission tariff filings:

Docket Numbers: OA08-121-000.

Applicants: Florida Power & Light Company.

Description: Third Revised Tariff Sheet 23 and Third Revised Tariff Sheet 24 containing Section 2.2 of its Open Access Transmission Tariff to reflect the new pro forma provision, etc. under New Docket.

Filed Date: 07/21/2008.

Accession Number: 20080721-5054.

Comment Date: 5 p.m. Eastern Time on Monday, August 11, 2008.

Docket Numbers: OA08-122-000.

Applicants: Tampa Electric Company.

Description: Order No. 890 OATT Filing of Tampa Electric Company

Filed Date: 07/23/2008.

Accession Number: 20080723-5093.

Comment Date: 5 p.m. Eastern Time on Wednesday, August 13, 2008.

Take notice that the Commission received the following public utility holding company filings:

Docket Numbers: PH08-23-001.

Applicants: Boralex Inc.

Description: Boralex Inc. notice of change in material facts.

Filed Date: 07/22/2008.

Accession Number: 20080722-5104.

Comment Date: 5 p.m. Eastern Time on Tuesday, August 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-17499 Filed 7-30-08; 8:45 am]

BILLING CODE 6717-01-P